ENVIRONMENTAL PROTECTION AGENCY

[CERCLA-01-2023-0031; FRL-10685-01-R1]

Proposed CERCLA Administrative Settlement Agreement and Order on Consent: City of Salem, Mansell Field Site, Salem, Massachusetts

AGENCY: Environmental Protection Agency (EPA).

ACTION: Notice of proposed settlement; request for public comments.

SUMMARY: Notice is hereby given that EPA has entered into a proposed settlement, embodied in an Administrative Settlement Agreement and Order on Consent, with the Settling Party, City of Salem, with respect to the Mansell Field Site, located in Salem, Essex County, Massachusetts. The settlement, which involves a mixed work and funding agreement with Salem, includes a proposed compromise of up to $1.841 million in direct and indirect EPA costs associated with EPA's contribution to the implementation of a removal action at the Site, to which this notice applies. The settlement also resolves Salem's liability for work performed and future response costs. Under the settlement, Salem will perform part of the removal action, in coordination with EPA, and as set forth in the September 8, 2022 Action Memorandum for the Site.

DATES: Comments must be submitted by March 29, 2023.

ADDRESSES: Comments should be addressed to Michelle Lauterback, Senior Enforcement Counsel, U.S. Environmental Protection Agency, 5 Post Office Square, Suite 100 (ORC 04-4), Boston, MA 02109-3912, telephone number (617) 918-1774, email address: Lauterback.michelle@epa.gov and should reference the Mansell Field Site, U.S. EPA Docket No: CERCLA 01-2023-0031.

FOR FURTHER INFORMATION CONTACT: A copy of the proposed settlement may be obtained from Stacy Greendlinger, Superfund and Emergency Management Division, U.S. Environmental Protection Agency, Region I, 5 Post Office Square, Suite 100 (02-2), Boston, MA 02109-3912, telephone number: (617) 918-1403, email address: greendlinger.stacy@epa.gov.

SUPPLEMENTARY INFORMATION: Notice of this proposed settlement agreement is made in accordance with section 122(i) of the Comprehensive Environmental Response, Compensation, and Liability Act (CERCLA), 42 U.S.C. 9622(i). This administrative settlement agreement is made in accordance with sections 104, 106, 107(a), and 122 of CERCLA, and includes a compromise of EPA response costs, under CERCLA sections 107(a) and the authority of the Attorney General of the United States to compromise and settle claims of the United States with the Settling Party, City of Salem, concerning the Mansell Field Site. The proposed settlement, which involves a mixed work and funding agreement with the Settling Party, includes a compromise of up to $1.841 million in direct and indirect EPA costs associated with EPA's contribution to the implementation of a removal action at the Site. The settlement agreement includes a covenant not to sue pursuant to sections 106 (for the work) and 107(a) (for future response costs and EPA costs to perform the work up to the amount of $1.841 million) of CERCLA, 42 U.S.C. 9606 and 9607(a), relating to the Site, and protection from contribution actions or claims as provided by sections 113(f)(2) and 1229h)(4) of CERCLA. Pursuant to the terms of the proposed settlement, EPA has reserved its right to recover any costs incurred to perform the removal action that are above the amount of $1.841 million, as well as EPA's past costs. The settlement has been approved by the Environmental and Natural Resources Division of the United States Department of Justice.

For 30 days following the date of publication of this notice, the Agency will receive written comments relating solely to the cost compromise component of the settlement under CERCLA section 107(a) (the compromise of up to $1.841 million in direct and indirect EPA costs associated with EPA's contribution to the implementation of a removal action at the Site). Section XIV (Payment of Response Costs) of the settlement agreement will become effective when EPA notifies Salem that the public comment period has closed and that such comments, if any, do not require that EPA modify or withdraw from consent to section XIV (Payment of Response Costs) of this agreement. The United States will consider all comments received and may seek to modify or withdraw consent from the cost compromise contained in the proposed settlement if comments received disclose facts or considerations which indicate that the cost compromise contained in the settlement is inappropriate, improper, or inadequate. The Agency's response to any comments received will be available for public inspection at the Environmental Protection Agency—Region I, 5 Post Office Square, Suite 100, Boston, MA 02109-3912.

Meghan Cassidy,
Deputy Director, Superfund and Emergency Management Division.

[FR Doc. 2023-03988 Filed 2-24-23; 8:45 am]

BILLING CODE 6560-50-P